DEPARTMENT OF THE INTERIOR

Geological Survey

National Cooperative Geologic Mapping Program (NCGMP) Advisory Committee

AGENCY: U.S. Geological Survey.

ACTION: Notice of meeting.

SUMMARY: Pursuant to Pub. L. 108-148, the NCGMP Advisory Committee will meet in Room 7000 A of the Main Interior Building, 1849 C Street, NW., Washington, DC. The Advisory Committee, composed of scientists from Federal Agencies, State Agencies, academic institutions, and private companies, will advise the Director of the U.S. Geological Survey on planning and implementation of the geologic mapping program.

Topics to be reviewed and discussed by the Advisory Committee include the:

• Progress of the NCGMP towards fulfilling the purposes of the National Geologic Mapping Act of 1992.

• Updates on the Federal, State, and educational components of the NCGMP.

• Strategic Goals.

DATES: February 10-11, commencing at 9 a.m. on February 10 and adjourning by 5 p.m. on February 11.

FOR FURTHER INFORMATION CONTACT: Laurel Bybell, U.S. Geological Survey, 908 National Center, Reston, Virginia 20192 (703) 648-5281.

SUPPLEMENTARY INFORMATION: Meetings of the National Cooperative Geologic Mapping Program Advisory Committee are open to the Public.

P. Patrick Leahy,
Associate Director for Geology, U.S. Geological Survey.

[FR Doc. 04-1638 Filed 1-26-04; 8:45 am]

BILLING CODE 4310-Y7-M